DEPARTMENT OF COMMERCE

International Trade Administration

[A-533-852]

Circular Welded Carbon-Quality Steel Pipe From India: Postponement of Final Determination of Antidumping Duty Investigation

AGENCY: Import Administration, International Trade Administration, Department of Commerce

DATES: Effective Date: June 18, 2012.

FOR FURTHER INFORMATION CONTACT: Steve Bezirganian or Robert James, AD/CVD Operations, Office 7, Import Administration, International Trade Administration, U.S. Department of Commerce, 14th Street and Constitution Avenue NW., Washington DC 20230; telephone: (202) 482-1131 or (202) 482-0649, respectively.

SUPPLEMENTARY INFORMATION:

Background

On November 15, 2011, the Department of Commerce (“Department”) initiated an antidumping duty investigation on circular welded carbon-quality steel pipe from India.¹ On June 1, 2012, the Department published its preliminary determination of sales at less than fair value.² The final determination of this antidumping duty investigation is currently due on August 6, 2012.

¹ See Circular Welded Carbon-Quality Steel Pipe from India, the Sultanate of Oman, the United Arab Emirates, and the Socialist Republic of Vietnam: Initiation of Antidumping Duty Investigations, 76 FR 72164 (November 22, 2011).

² See Circular Welded Carbon-Quality Steel Pipe from India: Preliminary Determination of Sales at Less Than Fair Value, 77 FR 32562 (June 1, 2012). (Preliminary Determination).

Postponement of Final Determination and Extension of Provisional Measures

Section 735(a)(2) of the Act provides that the Department may postpone a final determination until no later than 135 days after the date of the publication of the preliminary determination if, in the event of an affirmative determination, a request for such postponement is made by exporters who account for a significant proportion of exports of the subject merchandise, or in the event of a negative preliminary determination, a request for such postponement is made by petitioner. In addition, 19 CFR 351.210(e)(2) requires that requests by respondents for postponement of a final determination be accompanied by a request for extension of provisional measures from a four-month period to not more than six months.

On June 6, 2012, Zenith Birla (India) Limited, the sole mandatory respondent in this investigation, requested a postponement of the final determination and an extension of the provisional measures pursuant to section 735(a)(2) of the Act and 19 CFR 351.210(e)(2). In accordance with section 735(a)(2) of the Act and 19 CFR 351.210(b), because (1) our preliminary determination is affirmative, (2) the requesting exporter accounts for a significant proportion of exports of the subject merchandise,³ and (3) no compelling reasons for denial exist, we are granting the request and are postponing the final determination until no later than 135 days after the publication of the preliminary determination notice in the Federal Register, or October 14, 2012.⁴ Suspension of liquidation will be extended accordingly.

³ See, e.g.,Preliminary Determination, 77 FR at 32562.

⁴ As October 14, 2012, is a Sunday, the signature day will be the next business day, October 15, 2012, in accordance with our practice. See Notice of Clarification: Application of “Next Business Day” Rule for Administrative Determination Deadlines Pursuant to the Tariff Act of 1930, As Amended, 70 FR 24533 (May 10, 2005).

This notice is issued and published pursuant to sections 777(i) and 735(a)(2) of the Act and 19 CFR 351.210(g).

Dated: June 8, 2012.
Paul Piquado,
Assistant Secretary for Import Administration.

[FR Doc. 2012-14737 Filed 6-15-12; 8:45 am]

BILLING CODE 3510-DS-P